DEPARTMENT OF THE TREASURY

United States Mint

Public Meeting of the Citizens Coinage Advisory Committee

ACTION: Amended notice of meeting.

Notice is hereby given of an addition to the agenda for the public meeting of the Citizens Coinage Advisory Committee (CCAC) scheduled for February 24, 2026, which was published in the Federal Register on February 6, 2026, 91 FR 5555 Doc 2026-02310.

The meeting agenda is amended to add the following subject: review and discussion of a Semiquincentennial Gold Coin.

As stated in the original Federal Register notice, the meeting will be held remotely via videoconference. The deadline for members of the public to request a reasonable accommodation to watch the CCAC meeting has been extended to February 20, 2026.

(Authority: 31 U.S.C. 5135(b)(8)(C).)

Eric Anderson,
Executive Secretary, United States Mint.

[FR Doc. 2026-03304 Filed 2-18-26; 8:45 am]

BILLING CODE 4810-37-P